DEPARTMENT OF ENERGY

Federal Energy Regulatory Commission

[Docket No. CP03-347-000]

Blue Lake Gas Storage Company; Notice of Application

August 14, 2003.

Take notice that on August 8, 2003, Blue Lake Gas Storage Company (Blue Lake), 9 E Greenway Plaza, Houston, Texas 77046, filed in Docket No. CP03-347-000, an application pursuant to Section 7(c) of the Natural Gas Act (NGA), 15 U.S.C. 717f(c), as amended, and the Regulations of the Federal Energy Regulatory Commission's (Commission) 18 CFR sections 157.5 et seq., Subpart A, requesting that the Commission issue an order authorizing Blue Lake to increase the MDWQ to a certificated level of 700 MMcf/d and MDIQ to 700MMcf/d in order to provide greater flexibility to serve storage customers on a day by day basis, in particular during times of peak demands on the system.

The project is more fully set forth in the request on file with the Commission and open to public inspection. This filing is available for review on the Commission's Web site at http://www.ferc.gov using the eLibrary (FERRIS) link. Enter the docket number excluding the last three digits in the docket number field to access the document. For assistance, contact FERC Online Support at FERCOnlineSupport@ferc.gov or toll-free at (866) 208-3676, or for TTY, contact (202) 502-8659.

Any questions regarding this application should be directed to J. Gordon Pennington, Senior Counsel—Pipeline, 555 11th Street, NW., Washington, DC 20004, (202) 637-3544 or Dawn A. McGuire, Attorney, 9 Greenway Plaza, Houston, Texas 77046, (832) 676-5503.

There are two ways to become involved in the Commission's review of this project. First, any person wishing to obtain legal status by becoming a party to the proceedings for this project should, on or before the comment date stated below file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made in the proceeding with the Commission and must mail a copy to the applicant and to every other party. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the nonparty commenters will not receive copies of all documents filed by other parties or issued by the Commission (except for the mailing of environmental documents issued by the Commission) and will not have the right to seek court review of the Commissions' final order.

Protests and interventions may be filed electronically via the Internet in lieu of paper. See 18 CFR 385.2001(a)(1)(iii) and the instructions on the Commission's Web site under the “e-Filing” link. The Commission strongly encourages electronic filings.

If the Commission decides to set the application for a formal hearing before an Administrative Law Judge, the Commission will issue another notice describing that process. At the end of the Commission's review process, a final Commission order approving or denying a certificate will be issued.

Comment Date: September 4, 2003.

Magalie R. Salas,
Secretary.

[FR Doc. 03-21372 Filed 8-20-03; 8:45 am]

BILLING CODE 6717-01-P